DEPARTMENT OF TRANSPORTATION

Office of the Secretary

Aviation Proceedings, Agreements Filed the Week Ending May 2, 2003

The following Agreements were filed with the Department of Transportation under the provisions of 49 U.S.C. 412 and 414. Answers may be filed within 21 days after the filing of the application.

Docket Number: OST-2003-15088.

Date Filed: May 1, 2003.

Parties: Members of the International Air Transport Association.

Subject:

PTC2 EUR 0517 dated May 2, 2003,

Mail Vote 298—Resolution 010m,

TC2 Within Europe Special Passenger Amending Resolution from Tunisia to Europe,

Intended effective date: May 10, 2003.

Dorothy Y. Beard,
Chief, Docket Operations & Media Management, Federal Register Liaison.

[FR Doc. 03-11775 Filed 5-12-03; 8:45 am]

BILLING CODE 4910-62-U